ENVIRONMENTAL PROTECTION AGENCY

[FRL-9236-01-OMS]

Privacy Act of 1974; System of Records

AGENCY: Office of Research and Development (ORD), Environmental Protection Agency (EPA).

ACTION: Notice of a modified system of records.

SUMMARY: The U.S. Environmental Protection Agency's (EPA) Office of Research and Development (ORD) is giving notice that it proposes to modify a system of records pursuant to the provisions of the Privacy Act of 1974. This system will use SORN EPA-38. EPA-38 will be modified to change the name from Invention Reports to Federal Technology Transfer Act (FTTA) and Inventory for Patent Inventions (IfPI). Additionally, EPA is modifying the location, ownership, and categories of records in the FTTA and IfPI system. The purpose of the system is to provide the opportunity for the knowledge and expertise within the Agency to be shared with outside entities through collaborative agreements and licensing. Records are maintained for the purpose of documenting inventions made under EPA sponsorship, including filing patent applications, determining rights to inventions, licensing inventions, and ascertaining inventorship and priority of invention. Unless noted in this modification, all exemptions and provisions included in the previously published system of record notice for Invention Reports will transfer to the modified system of record notice for Federal Technology Transfer Act (FTTA) and Inventory for Patent Inventions (IfPI).

DATES: Persons wishing to comment on this system of records notice must do so by February 14, 2022. New or modified routine uses for this system of records will be effective February 14, 2022.

ADDRESSES: Submit your comments, identified by Docket ID No. EPA-HQ-ORD-2021-0811, by one of the following methods:

Federal eRulemaking Portal: https://www.regulations.gov. Follow the online instructions for submitting comments.

Email: docket_oms@epa.gov. Include the Docket ID number in the subject line of the message.

Fax: 202-566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-ORD-2021-0811. The EPA's policy is that all comments received will be included in the public docket without change and may be made available online at https://www.regulations.gov, including any personal information provided, unless the comment includes information claimed to be Controlled Unclassified Information (CUI) or other information for which disclosure is restricted by statute. Do not submit information that you consider to be CUI or otherwise protected through https://www.regulations.gov. The https://www.regulations.gov website is an “anonymous access” system for the EPA, which means the EPA will not know your identity or contact information. If you submit an electronic comment, the EPA recommends that you include your name and other contact information in the body of your comment. If the EPA cannot read your comment due to technical difficulties and cannot contact you for clarification, the EPA may not be able to consider your comment. If you send an email comment directly to the EPA without going through https://www.regulations.gov, your email address will be automatically captured and included as part of the comment that is placed in the public docket and made available on the internet. Electronic files should avoid the use of special characters, any form of encryption, and be free of any defects or viruses. For additional information about the EPA public docket, visit the EPA Docket Center homepage at https://www.epa.gov/dockets.

Docket: All documents in the docket are listed in the https://www.regulations.gov index. Although listed in the index, some information is not publicly available, e.g., CUI or other information for which disclosure is restricted by statute. Certain other material, such as copyrighted material, will be publicly available only in hard copy. Publicly available docket materials are available either electronically in https://www.regulations.gov or in hard copy at the OMS Docket, EPA/DC, WJC West Building, Room 3334, 1301 Constitution Ave. NW, Washington, DC 20460. The Public Reading Room is normally open from 8:30 a.m. to 4:30 p.m., Monday through Friday excluding legal holidays. The telephone number for the Public Reading Room is (202) 566-1744, and the telephone number for the OMS Docket is (202) 566-1752.

Temporary Hours During COVID-19

Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information on EPA Docket Center services and the current status, please visit us online at https://www.epa.gov/dockets.

FOR FURTHER INFORMATION CONTACT: Carmen Krieger, Acquisition Specialist, Office of Resource Management, Office of Research and Development, Environmental Protection Agency, Ronald Reagan Building, 1300 Pennsylvania Ave. NW, Washington, DC 20460, (202) 564-0396, krieger.carmen@epa.gov.

SUPPLEMENTARY INFORMATION: The purpose of the system is to provide the opportunity for the knowledge and expertise within the Agency to be shared with outside entities through collaborative agreements and licensing. The FTTA and IfPI system houses FTTA mechanisms: Cooperative Research and Development Agreements (CRADAs), Materials CRADAs (MCRADAs), Materials Transfer Agreements (MTAs), and Non-Disclosure Agreements (NDAs). For each agreement, the system tracks general information for the partner and EPA. We have a description of the project, potential products, associations, budgets. The system also tracks the status and workflows of each agreement. IfPI contains the Employee Reports of Invention (EROIs) database, which tracks License and Patent information. The License information is identical to how EPA tracks FTTA agreements. The Patent information includes our inventors and relative information regarding new inventions, which is contained in EROIs.

SYSTEM NAME AND NUMBER:

Federal Technology Transfer Act (FTTA) and Inventory for Patent Inventions (IfPI) database, EPA-38.

SECURITY CLASSIFICATION:

Unclassified.

SYSTEM LOCATION:

This is a cloud system. Data is stored on the Salesforce servers. The FTTA and IfPI database is stored and run in the Salesforce GovCloud (San Francisco, CA). EROIs are saved electronically to servers located at EPA National Computer Center (NCC), 109 TW Alexander Drive, Research Triangle Park, Durham, NC 27711. Information may also be stored within a government-certified cloud, implemented and overseen by the Agency's Chief Information Officer (CIO). Hard copy file records of the FTTA and IfPI system are housed in a locked storage room at the Ronald Reagan Building, 1300 Pennsylvania Ave., Washington, DC 20460.

SYSTEM MANAGER:

Kathleen Graham, Program Analyst, Office of Resource Management, Office of Research and Development, Environmental Protection Agency, 1595 Wynkoop Street, Denver, CO 80202, (303) 312-6137, graham.kathleen@epa.gov.

AUTHORITY FOR MAINTENANCE OF THE SYSTEM:

15 U.S.C. 3710, Utilization of Federal Technology. 15 U.S.C. 3710a, Cooperative Research and Development Agreements. 35 U.S.C. chapter 18, Patent Rights in Inventions Made with Federal Assistance. 37 CFR parts 401, 404, and 501.

PURPOSE(S) OF THE SYSTEM:

The purpose of the system is to provide the opportunity for the knowledge and expertise within the Agency to be shared with outside entities through collaborative agreements and licensing. Records are maintained for the purpose of documenting inventions made under EPA sponsorship, including filing patent applications, determining rights to inventions, licensing inventions, and ascertaining inventorship and priority of invention. The Federal Technology Transfer Act (FTTA) Program (15 U.S.C. 3710) provides the opportunity for the knowledge and expertise within the Agency to be shared with outside entities through collaborative agreements and licensing. The system houses FTTA mechanisms: Cooperative Research and Development Agreements (CRADAs), Materials CRADAs (MCRADAs), Materials Transfer Agreements (MTAs), Non-Disclosure Agreements (NDAs), and License Agreements. For each agreement, the system tracks general information for the partner and EPA. We have a description of the project, potential products, associations, and budgets. The system also tracks the status and workflows of each agreement.

CATEGORIES OF INDIVIDUALS COVERED BY SYSTEM:

FTTA Contacts, which are EPA employees within ORD; Invention report submitters and their supervisors; other persons with knowledge of the invention or expertise in the particular area of the invention; EPA Patent Counsel; EPA contractors who have confirmed the uniqueness of the invention, prepared a patent application on the invention, and/or otherwise performed work relating to a patent application; and the United States and foreign patent offices.

CATEGORIES OF RECORDS IN THE SYSTEM:

Agreements/Licenses: Name, business email address, business telephone number, work address. Patents: Invention reports (name and address), patent applications (name and address) until application is published, patents (name, city, and state), patent assignments (name), procurement requests (name and address), and other documents relevant to inventions.

RECORD SOURCE CATEGORIES:

EPA employees and contractors and external partners. Records are entered into the system by EPA employees.

ROUTINE USES OF RECORDS MAINTAINED IN THE SYSTEM, INCLUDING CATEGORIES OF USERS AND PURPOSES OF SUCH USES:

The routine uses below are both related to and compatible with the original purpose for which the information was collected. The following general routine uses apply to this system (86 FR 62527): A, D, E, F, G, H, I, K, L, and M.

Additional routine uses that apply to this system are:

1. To scientific personnel who possess the expertise to understand the invention and evaluate its importance to the Government and/or the public.

2. To contract patent counsel and their employees retained by the Agency for patent searching and the preparation and prosecution of United States and foreign patent applications.

3. To technology assistance personnel, technology evaluators, technology finders, and prospective licensees who may further make the invention available to the public through evaluation, promotion, sale, use, or publication.

4. To parties, such as supervisors of inventors, whom we contact to determine ownership rights, and to people contacting us to determine the Government's ownership.

5. To the United States and foreign Patent and Trademark Offices when we file U.S. and foreign patent applications.

POLICIES AND PRACTICES FOR STORAGE OF RECORDS:

These records are maintained electronically on the EPA Salesforce GovCloud. Backups are stored in the NCC for 90 days and also backed up to tape per NCC backup policies.

POLICIES AND PRACTICES FOR RETRIEVAL OF RECORDS:

The FTTA and IfPI database retrieves information by inventor's name, case identification number, patent application number, and patent number. The FTTA data has list views that can be filtered, depending on user preference, to present data. The system also includes a search box where a user can search by file number, case number, or business name.

POLICIES AND PRACTICES FOR RETENTION AND DISPOSAL OF RECORDS:

The records are maintained for ten (10) years after completion or termination of action on the disclosed invention, such as issuance of a patent. They are destroyed ten (10) years after file closure. The Records Schedule is 1003b.

ADMINISTRATIVE, TECHNICAL, AND PHYSICAL SAFEGUARDS:

Security controls used to protect personal sensitive data in the FTTA and IfPI system are commensurate with those required for an information system rated MODERATE for confidentiality, integrity, and availability, as prescribed in National Institute of Standards and Technology (NIST) Special Publication, 800-53, “Security and Privacy Controls for Information Systems and Organizations,” Revision 5.

1. Administrative Safeguards: FTTA and IfPI follow procedures set out by NIST 800-53 and EPA's Chief Information Officer (CIO) Security Procedures including that EPA personnel are required to complete annual agency Information Security and Privacy training. EPA personnel are instructed to lock their computers when they leave their desks.

2. Technical Safeguards: Only Office of Research and Development FTTA Core team members have access to the combination code to enter the records room. Office of Research and Development FTTA Core team members have elevated privileges to access system, approve workflow, use communication features (e.g., upload files, email, and task features), and ad-hoc reporting. Authorized users in the Office of General Counsel have the same access, but cannot delete records. Lab Contacts have view-only privileges, but are able to use communication features.

3. Physical Safeguards: All servers are maintained in secure, access-controlled areas or buildings. Paper records are maintained in locked file cabinets in a locked room in an access-controlled building.

RECORD ACCESS PROCEDURES:

Individuals seeking access to information in this system of records about themselves are required to provide adequate identification (e.g., driver's license, military identification card, employee badge, or identification card). Additional identity verification procedures may be required, as warranted. Requests must meet the requirements of EPA regulations that implement the Privacy Act of 1974, at 40 CFR part 16.

CONTESTING RECORDS PROCEDURES:

Requests for correction or amendment must identify the record to be changed and the corrective action sought. Complete EPA Privacy Act procedures are described in EPA's Privacy Act regulations at 40 CFR part 16.

NOTIFICATION PROCEDURE:

Individuals who want to know whether this system of records contains information about them should make a written request to the EPA, Attn: Agency Privacy Officer, MC 2831T, 1200 Pennsylvania Avenue NW, Washington, DC 20460, privacy@epa.gov.

EXEMPTIONS PROMULGATED FOR THE SYSTEM:

None.

HISTORY:

Federal Register Volume 67, Number 36 (Friday, February 22, 2002).

Vaughn Noga,
Senior Agency Official for Privacy.

[FR Doc. 2022-00628 Filed 1-12-22; 8:45 am]

BILLING CODE 6560-50-P